DEPARTMENT OF ENERGY

Federal Energy Regulatory Commission

Combined Notice of Filings #2

Take notice that the Commission received the following electric rate filings:

Docket Numbers: ER16-2226-000.

Applicants: McHenry Battery Storage, LLC.

Description: Report Filing: Refund Report of McHenry Battery Storage, LLC to be effective N/A.

Filed Date: 12/5/16.

Accession Number: 20161205-5443.

Comments Due: 5 p.m. ET 12/27/16.

Docket Numbers: ER17-62-001.

Applicants: Otter Tail Power Company.

Description: Tariff Amendment: Errata to Filing of Certificate of Concurrence to be effective 1/1/2016.

Filed Date: 12/6/16.

Accession Number: 20161206-5240.

Comments Due: 5 p.m. ET 12/13/16.

Docket Numbers: ER17-419-000.

Applicants: American Electric Power Service Corporation, PJM Interconnection, L.L.C.

Description: Transource Pennsylvania, LLC and Transource Maryland, LLC submit Supplement to November 28, 2016 American Electric Power Service Corporation Formula Rate OATT Filing.

Filed Date: 12/5/16.

Accession Number: 20161205-5479.

Comments Due: 5 p.m. ET 12/19/16.

Docket Numbers: ER17-490-000.

Applicants: California Independent System Operator Corporation.

Description: § 205(d) Rate Filing: 2016-12-05 Reactive Power Requirements Automatic Voltage Regulator Amendment to be effective3/6/2017.

Filed Date: 12/5/16.

Accession Number: 20161205-5438.

Comments Due: 5 p.m. ET 12/27/16.

Docket Numbers: ER17-491-000.

Applicants: Southern California Edison Company.

Description: Tariff Cancellation: Cancel LGIA SP Blythe 1 Project SA No. 176 to be effective 2/8/2017.

Filed Date: 12/6/16.

Accession Number: 20161206-5155.

Comments Due: 5 p.m. ET 12/27/16.

Docket Numbers: ER17-493-000.

Applicants: Southern California Edison Company.

Description: § 205(d) Rate Filing: DSA for the Santa Paula ES A Project, SA No. 917 to be effective 12/7/2016.

Filed Date: 12/6/16.

Accession Number: 20161206-5201.

Comments Due: 5 p.m. ET 12/27/16.

Docket Numbers: ER17-494-000.

Applicants: PJM Interconnection, L.L.C.

Description: § 205(d) Rate Filing: Clean-up of OA, Definition Sec I-L re: accepted language effective as of 7/18/16 to be effective 1/1/2014.

Filed Date: 12/6/16.

Accession Number: 20161206-5202.

Comments Due: 5 p.m. ET 12/27/16.

Take notice that the Commission received the following electric reliability filings

Docket Numbers: RD17-3-000.

Applicants: North American Electric Reliability Corporation, Western Electricity Coordinating Council.

Description: Joint Petition of the North American Electric Reliability Corporation and Western Electricity Coordinating Council for Approval of Interpretation of Regional Reliability Standard BAL-002-WECC-2a.

Filed Date: 11/9/16.

Accession Number: 20161109-5164.

Comments Due: 5 p.m. ET 1/5/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2016.
Nathaniel J. Davis, Sr.,
Deputy Secretary.

[FR Doc. 2016-29786 Filed 12-12-16; 8:45 am]

BILLING CODE 6717-01-P